DEPARTMENT OF DEFENSE

Office of the Secretary

[Transmittal Nos. 12-39]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-39 with attached transmittal and policy justification.

Dated: July 30, 2012.
Aaron Siegel,
Alternate OSD Federal Register Liaison Officer, Department of Defense.

BILLING CODE 5001-06-C

Transmittal No. 12-39

Notice of Proposed Issuance of Letter of Offer Pursuant to Section 36(b)(1) Of the Arms Export Control Act, as amended

(i) Prospective Purchaser: Thailand

(ii) Total Estimated Value:

Major Defense Equipment* | $170 million
Other | $ 65 million
Total | $235 million

(iii) Description and Quantity or Quantities of Articles or Services under Consideration for Purchase: 4 UH-60M BLACK HAWK Helicopters, 10 T700-GE-701D Engines (8 installed and 2 spares), warranty, support equipment, spare and repair parts, personnel training and training equipment, publications and technical data, U.S. Government and contractor technical assistance, and other related logistics support.

(iv) Military Department: USA (UAF)

(v) Prior Related Cases, if any: FMS case UAD-$95M-23Jan12

(vi) Sales Commission, Fee, etc., Paid, Offered, or Agreed to be Paid: None

(vii) Sensitivity of Technology Contained in the Defense Article or Defense Services Proposed to be Sold: None

(viii) Date Report Delivered to Congress: 20 July 2012

* as defined in Section 47(6) of the Arms Export Control Act.

Policy Justification

Thailand—UH-60M BLACK HAWK Helicopters

The Government of Thailand (GoT) has requested a possible sale of 4 UH-60M BLACK HAWK Helicopters, 10 T700-GE-701D Engines (8 installed and 2 spares), warranty, support equipment, spare and repair parts, personnel training and training equipment, publications and technical data, U.S. Government and contractor technical assistance, and other related logistics support. The estimated cost is $235 million.

This proposed sale will contribute to the foreign policy and national security of the United States, by helping to improve the security of a friendly country which has been, and continues to be, an important force for political stability and economic progress in South-East Asia.

The Government of Thailand intends to use the UH-60s to modernize its armed forces. This proposed sale will contribute to the GoT objective to update its military capabilities and improve interoperability between Thailand and the U.S., and among other allies.

The proposed sale of these helicopters and support will not alter the basic military balance in the region.

The principal contractors will be Sikorsky Aircraft Company in Stratford, Connecticut; and General Electric Aircraft Company (GEAC) in Lynn, Massachusetts. There are no known offset agreements proposed in connection with this potential sale.

Implementation of this proposed sale will require U.S. Government representatives to travel to Thailand for a period of 5 weeks for equipment deprocessing/fielding, system checkout and new equipment training and a Contractor Furnished Service Representative (CFSR) for a period of one year.

There will be no adverse impact on U.S. defense readiness as a result of this proposed sale.

[FR Doc. 2012-18977 Filed 8-2-12; 8:45 am]

BILLING CODE 5001-06-P